DEPARTMENT OF TRANSPORTATION

Federal Highway Administration

Environmental Impact Statement; Syracuse, UT

AGENCY: Federal Highway Administration (FHWA), DOT.

ACTION: Notice of intent.

SUMMARY: The FHWA is issuing this notice to advise the public that an Environmental Impact Statement will be prepared for a proposed transportation improvement project on Syracuse Road (SR-108) from 1000 West to 2000 West in Syracuse City, Utah.

FOR FURTHER INFORMATION CONTACT: Gregory S. Punske, P.E., Environmental Program Manager, Federal Highway Administration, 2520 West 4700 South, Suite 9A, Salt Lake City, UT 84118, Telephone: (801) 963-0182; or Bruce Swenson, Project Manager, Utah Department of Transportation Region One Office, 169 North Wall Avenue, Ogden, UT 84412, Telephone: (801) 620-1683.

SUPPLEMENTARY INFORMATION: The FHWA, in cooperation with the Utah Department of Transportation, will prepare an Environmental Impact Statement (EIS) on a proposal to address current and projected transportation demand on Syracuse Road (SR-108) from 1000 West to 2000 West within Syracuse City, Utah.

Letters describing the proposed action and soliciting comments will be sent to appropriate Federal, State, and local agencies, and to private organizations and citizens who have previously expressed or are known to have interest in this proposal. Public information meetings and a public hearing will be held. Public notice will be given of the time and place of the meetings and hearing. The draft EIS will be available for public and agency review and comment prior to the public hearing.

An Interagency scoping meeting is scheduled for October 15, 2003 from 10 a.m. to 12 noon at the Utah Department of Transportation Region One Office located at: 169 North Wall Avenue, Ogden, UT 84412. Contact Mr. Bruce Swenson at (801) 620-1683 for additional information or directions to the meeting.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: September 30, 2003.
Gregory S. Punske,
Environmental Project Manager, Salt Lake City, Utah.

[FR Doc. 03-25239 Filed 10-3-03; 8:45 am]

BILLING CODE 4910-22-M